DEPARTMENT OF COMMERCE

Economic Development Administration

Agency Information Collection Activities; Submission to the Office of Management and Budget (OMB) for Review and Approval; Comment Request; Request To Amend an Investment Award and Project Service Maps

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 6, 2021 during a 60-day comment period. This notice allows for an additional 30 days for public comments.

Agency: Economic Development Administration (EDA), Commerce.

Title: Request to Amend an Investment Award and Project Service Maps.

OMB Control Number: 0610-0102.

Form Number(s): None.

Type of Request: Extension without change of a currently approved information collection.

Number of Respondents: 632.

Average Hours per Response: 2 hours for an amendment to a construction award, 1 hour for an amendment to a non-construction award, and 6 hours for a project service map.

Burden Hours: 1,242 hours.

Type of request | Number of respondents | Average hours per response | Estimated burden hours
Requests for amendments to construction awards | 600 | 2 hours/request | 1,200
Requests for amendment to non-construction awards | 30 | 1 hour/request | 30
Project service maps | 2 | 6 hours/map | 12
Total | 632 |  | 1,242

Needs and Uses: To effectively administer and monitor its economic development assistance programs, EDA collects certain information from applicants for, and recipients of, EDA investment assistance. EDA proposes to extend this information collection for when a recipient must submit a written request to EDA to amend an investment award and provide such information and documentation as EDA deems necessary to determine the merit of altering the terms of an award (see 13 CFR 302.7(a)). Additionally, EDA may require a recipient to submit a project service map and information from which to determine whether services are provided to all segments of the region being assisted (see 13 CFR 302.16(c)).

Affected Public: Current recipients of EDA awards, including: (1) Cities or other political subdivisions of a State, including a special purpose unit of state or local government engaged in economic or infrastructure development activities, or a consortium of political subdivisions; (2) States; (3) institutions of higher education; (4) public or private non-profit organizations or associations; (5) District Organizations; (6) Indian Tribes; and (7) (for training, research, and technical assistance awards only) individuals and for-profit businesses.

Frequency: As needed to amend an investment award.

Respondent's Obligation: Mandatory.

Legal Authority: The Public Works and Economic Development Act of 1965 (42 U.S.C. 3121 et. seq).

This information collection request may be viewed at reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0610-0102.

Sheleen Dumas,
Department PRA Clearance Officer, Office of the Chief Information Officer, Commerce Department.

[FR Doc. 2021-26933 Filed 12-10-21; 8:45 am]

BILLING CODE 3510-34-P